DEPARTMENT OF COMMERCE

International Trade Administration

[A-570-051]

Hardwood Plywood Products From the People's Republic of China: Rescission of Antidumping Duty New Shipper Review; 2019

AGENCY: Enforcement and Compliance, International Trade Administration, Department of Commerce.

SUMMARY: The Department of Commerce is rescinding the new shipper review of the antidumping duty order on hardwood plywood products from the People's Republic of China for the period January 1, 2019, through June 30, 2019, based on the timely withdrawal of the request for review.

DATES: Applicable September 27, 2019.

FOR FURTHER INFORMATION CONTACT: Jasun Moy, AD/CVD Operations, Office V, Enforcement and Compliance, International Trade Administration, U.S. Department of Commerce, 1401 Constitution Avenue NW, Washington, DC 20230; telephone: (202) 482-8194.

Background

On January 4, 2018, the Department of Commerce (Commerce) published the antidumping duty order on hardwood plywood products (plywood) from the People's Republic of China (China).¹ On July 30, 2019, Commerce received a timely new shipper review (NSR) request from Xuzhou Constant Forest Industry Co., Ltd. (Constant Forest), in accordance with section 751(a)(2)(B)(i) of the Tariff Act of 1930, as amended (the Act), and 19 CFR 351.214(c).² On August 27, 2019, in accordance with section 751(a)(2)(B) of the Act, and 19 CFR 351.214(b), Commerce initiated a NSR of the antidumping duty order on plywood from China with respect to Constant Forest.³ On September 12, 2019, Constant Forest timely withdrew its request for a NSR.⁴

¹ See Certain Hardwood Plywood Products from the People's Republic of China: Amended Final Determination of Sales at Less Than Fair Value, and Antidumping Duty Order, 83 FR 504 (January 4, 2018).

² See Constant Forest's Letter, “Certain Hardwood Plywood Products from the People's Republic of China—Request for New Shipper Review,” dated July 30, 2019.

³ See Hardwood Plywood Products from the People's Republic of China: Initiation of Antidumping Duty New Shipper Review; 2019, 84 FR 44862 (August 27, 2019).

⁴ See Constant Forest's Letter, “Certain Hardwood Plywood Products from the People's Republic of China—Withdrawal of Request for New Shipper Review,” dated September 12, 2019.

Rescission of Review

Pursuant to 19 CFR 351.214(f)(1), Commerce will rescind a NSR, in whole or in part, if the party that requested the review withdraws its request within 60 days of the publication date of the notice of initiation of the requested review. Constant Forest withdrew its request for review within the 60-day deadline. Because Commerce received no other requests for review of Constant Forest, we are rescinding the NSR covering the period January 1, 2019 through June 30, 2019, in full, in accordance with 19 CFR 351.214(f)(1). Consequently, we will continue to treat Constant Forest as part of the China-wide entity.

Assessment

Because we are rescinding the NSR of Constant Forest, we are not making a determination as to whether Constant Forest qualifies for a separate rate. Therefore, we will continue to treat Constant Forest a part of the China-wide entity and any entries covered by this NSR will be assessed at the China-wide rate. The China-wide entity is not under review in the ongoing administrative review covering the 2016-2018 period of review, and therefore, Constant Forest is not under review in the concurrent administrative review.⁵ Accordingly, Commerce will instruct U.S. Customs and Border Protection (CBP) to assess antidumping duties on entries of plywood from China during the period of review made by Constant Forest. For this company, antidumping duties shall be assessed at rates equal to the cash deposit rate of estimated antidumping duties required at the time of entry, or withdrawal from warehouse, for consumption, in accordance with 19 CFR 351.212(c)(1)(i). Commerce intends to issue appropriate assessment instructions to CBP 15 days after publication of this notice in the Federal Register.

⁵ See Initiation of Antidumping and Countervailing Duty Administrative Reviews, 84 FR 12200 (April 1, 2019).

Notification to Importers

This notice serves as the only reminder to importers whose entries will be liquidated as a result of this rescission notice, of their responsibility under 19 CFR 351.402(f)(2) to file a certificate regarding the reimbursement of antidumping duties prior to liquidation of the relevant entries during this review period. Failure to comply with this requirement could result in the presumption that reimbursement of the antidumping duties occurred and the subsequent assessment of double antidumping duties.

Notification Regarding Administrative Protective Order

This notice also serves as the only reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is issued and published in accordance with sections 751 and 777(i)(l) of the Act and 19 CFR 351.214(f)(3).

Dated: September 23, 2019.
James Maeder,
Deputy Assistant Secretary for Antidumping and Countervailing Duty Operations.

[FR Doc. 2019-21004 Filed 9-26-19; 8:45 am]

BILLING CODE 3510-DS-P